DEPARTMENT OF COMMERCE

International Trade Administration

[A-533-867]

Welded Stainless Pressure Pipe From India: Amended Final Results of Antidumping Duty Administrative Review; 2020-2021

AGENCY: Enforcement and Compliance, International Trade Administration, Department of Commerce.

SUMMARY: The U.S. Department of Commerce (Commerce) is amending the final results of the administrative review of the antidumping duty order on welded stainless pressure pipe (WSPP) from India to correct certain ministerial errors. The period of review is November 1, 2020, through October 31, 2021.

DATES: Applicable July 27, 2023.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On June 9, 2023, Commerce published the Final Results of the 2020-2021 administrative review of WSPP from India.¹ Additionally, on June 7, 2023, Commerce informed interested parties that it had disclosed all calculations for the Final Results and provided them with the opportunity to submit ministerial error comments.² Subsequently, on June 12, 2023, Commerce received a timely-filed allegation on behalf of the Felker Brothers Corporation (the petitioner) regarding the calculation of the final weighted-average dumping margin for Ratnamani Metals & Tubes Ltd. India's (Ratnamani).³ No other interested party submitted comments.

¹ See Welded Stainless Pressure Pipe from India: Final Results of Antidumping Duty Administrative Review; 2020-2021, 88 FR 37858 (June 9, 2023) (Final Results), and accompanying Issues and Decision Memorandum.

² See Memorandum, “Deadline for Ministerial Error Comments,” dated June 7, 2023.

³ See Petitioner's Letter, “Ministerial Error Comments Concerning Ratnamani Metals & Tubes Ltd. India,” dated June 12, 2023.

Legal Framework

Section 751(h) of the Tariff Act of 1930, as amended, (the Act), and 19 CFR 351.224(f) defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . . .”

Ministerial Error

The petitioner alleges that Commerce made a ministerial error in the Final Results, within the meaning of section 751(h) of the Act and 19 CFR 351.224(f), when valuing international movement expenses for Ratnamani's final dumping margin calculations. In particular, the petitioner argues that Commerce unintentionally excluded certain movement expenses when it made adjustments for other reported U.S. price-related expenses, noting that it is Commerce's practice to include these expenses in the calculation of net U.S. price. This error resulted in an incorrect weighted-average dumping margin calculated for Ratnamani.⁴

⁴ Id. at 2.

We agree with the petitioner that a ministerial error was made in not including certain international movement expenses in the final calculation of Ratnamani's net U.S. price. In the Preliminary Results, Commerce stated that it had “calculated export price in accordance with 772(c)(2)(A) of the Act and, where appropriate, made adjustments to the starting price for billing adjustments while deductions were made for inland freight from the plant or warehouse to the port of exportation and Indian and U.S. brokerage and handling fees.” ⁵ We have revised the margin calculations for Ratnamani to include the movement expenses in question.

⁵ See Welded Stainless Pressure Pipe from India: Preliminary Results and Partial Rescission of Antidumping Duty Administrative Review; 2020-2021, 87 FR 74602 (December 6, 2022), and accompanying Preliminary Decision Memorandum at 8.

Details of Commerce's analysis of the petitioner's ministerial error allegation are included in the Ministerial Error Allegation Memorandum.⁶ The Ministerial Error Allegation Memorandum is a public document and is available via Enforcement and Compliance's Antidumping and Countervailing Duty Centralized Electronic Service System (ACCESS). ACCESS is available to registered users at https://access.trade.gov.

⁶ See Memorandum, “Ministerial Error Allegation,” dated concurrently with this notice (Ministerial Error Allegation Memorandum).

Accordingly, pursuant to 19 CFR 351.224(e), Commerce is amending the Final Results to reflect the correction of this ministerial error in the calculation of the weighted-average dumping margin assigned to Ratnamani, which changes from 7.57 percent to 7.96 percent.⁷ Furthermore, because Ratnamani was the sole respondent in this administrative review, we are also applying this amended rate to those companies not selected for individual examination in this review.

⁷ See Memorandum, “Amended Final Results Analysis Memorandum for Ratnamani Metals & Tubes Ltd.,” dated concurrently with this notice.

Amended Final Results of Review

As a result of correcting these ministerial errors, Commerce determines that the following weighted-average dumping margins exist for the period November 1, 2020, through October 31, 2021:

⁸ See the Appendix to this notice for a full list of the companies not individually examined in this review.

Producer or exporter | Weighted- average dumping margin (percent)
Ratnamani Metals & Tubes Ltd | 7.96
Non-Selected Companies ⁸ | 7.96

Disclosure

We will disclose the calculations performed for these amended final results to parties to this segment of the proceeding within five days of the date of the publication of these amended final results, pursuant to 19 CFR 351.224(b).

Assessment Rate

Pursuant to section 751(a)(2)(C) of the Act and 19 CFR 351.212(b)(1), Commerce has determined, and U.S. Customs and Border Protection (CBP) shall assess, antidumping duties on all appropriate entries of subject merchandise in accordance with these amended final results of the administrative review.

In accordance with 19 CFR 351.212(b)(1), we calculated importer-specific ad valorem antidumping duty assessment rates based on the ratio of the total amount of dumping calculated for the examined sales for each importer to the total entered value of the sales for each importer. Where an importer-specific antidumping duty assessment rate is zero or de minimis within the meaning of 19 CFR 351.106(c)(1), Commerce will instruct CBP to liquidate the appropriate entries without regard to antidumping duties.

Commerce's “automatic assessment” will apply to entries of subject merchandise during the period of review produced by Ratnamani for which the reviewed company did not know that the merchandise it sold to the intermediary (e.g., a reseller, trading company, or exporter) was destined for the United States. In such instances, we will instruct CBP to liquidate unreviewed entries at the all-others rate if there is no rate for the intermediate company(ies) involved in the transaction.

For the companies which were not selected for individual examination, we will instruct CBP to assess antidumping duties at an ad valorem assessment rate equal to the weighted-average dumping margin determined in these amended final results.

The amended final results of this review shall be the basis for the assessment of antidumping duties on entries of merchandise covered by the amended final results of this review and for future deposits of estimated duties, where applicable.⁹

⁹ See section 751(a)(2)(C) of the Act.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective retroactively for all shipments of subject merchandise that entered, or were withdrawn from warehouse, for consumption on or after June 9, 2023, the date of publication of the Final Results of this administrative review, as provided for by section 751(a)(2)(C) of the Act: (1) the cash deposit rate for the companies listed above will be equal to the weighted-average dumping margin established in these amended final results of review; (2) for producers or exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 8.35 percent established in the less-than-fair-value investigation.¹⁰

¹⁰ See Welded Stainless Pressure Pipe from India: Antidumping Duty and Countervailing Duty Orders, 81 FR 81062 (November 17, 2016).

These cash deposit requirements, when imposed, shall remain in effect until further notice.

Notification to Importers

This notice also serves as a final reminder to importers of their responsibility under 19 CFR 351.402(f) to file a certificate regarding the reimbursement of antidumping and/or countervailing duties prior to liquidation of the relevant entries during the period of review. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(h) and 777(i)(1) of the Act, and 19 CFR 351.224(e).

Dated: July 21, 2023.
Lisa W. Wang,
Assistant Secretary for Enforcement and Compliance.

Appendix

List of Companies Not Selected for Individual Examination

1. Apex Tubes Private Ltd.

2. Apurvi Industries

3. Arihant Tubes

4. Divine Tubes Pvt. Ltd.

5. Heavy Metal & Tubes

6. J.S.S. Steelitalia Ltd.

7. Linkwell Seamless Tubes Private Limited

8. Maxim Tubes Company Pvt. Ltd.

9. MBM Tubes Pvt. Ltd.

10. Mukat Tanks & Vessel Ltd.

11. Neotiss Ltd.

12. Prakash Steelage Ltd.

13. Quality Stainless Pvt. Ltd.

14. Raajratna Metal Industries Ltd.

15. Ratnadeep Metal & Tubes Ltd.

16. Remi Edelstahl Tubulars

17. Shubhlaxmi Metals & Tubes Private Limited

18. SLS Tubes Pvt. Ltd.

19. Steamline Industries Ltd.

[FR Doc. 2023-15950 Filed 7-26-23; 8:45 am]

BILLING CODE 3510-DS-P